DEPARTMENT OF TRANSPORTATION

Federal Aviation Administration

14 CFR Part 39

[Docket No. 2001-NM-244-AD]

RIN 2120-AA64

Airworthiness Directives; McDonnell Douglas Model 717 Series Airplanes

AGENCY: Federal Aviation Administration, DOT.

ACTION: Notice of proposed rulemaking (NPRM).

SUMMARY: This document proposes the adoption of a new airworthiness directive (AD) that is applicable to certain McDonnell Douglas Model 717 series airplanes. This proposal would require repetitive inspections for cracking of the spoiler hold-down actuator supports located on the left and right wing rear spars; adjustment of the spoiler hold-down actuators; and replacement of cracked spoiler hold-down actuator supports with new supports. The proposal would also require replacement of all spoiler hold-down actuator supports, which terminates the repetitive inspections. This action is necessary to detect and correct as well as to prevent cracks in the spoiler hold-down actuator supports, which could lead to reduced spoiler hold-down capability, resulting in loss of the back-up protection of the spoiler float hold-down and unavailability of monitoring for an uncommanded spoiler movement. This action is intended to address the identified unsafe condition.

DATES: Comments must be received by February 19, 2002.

ADDRESSES: Submit comments in triplicate to the Federal Aviation Administration (FAA), Transport Airplane Directorate, ANM-114, Attention: Rules Docket No. 2001-NM-244-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2001-NM-244-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington or at the FAA, Los Angeles Aircraft Certification Office, 3960 Paramount Boulevard, Lakewood, California.

FOR FURTHER INFORMATION CONTACT: Maureen Moreland, Aerospace Engineer, Airframe Branch, ANM-120L, FAA, Los Angeles Aircraft Certification Office, 3960 Paramount Boulevard, Lakewood, California 90712-4137; telephone (562) 627-5238; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2001-NM-244-AD.” The postcard will be date stamped and returned to the commenter.

Availability of NPRMs

Any person may obtain a copy of this NPRM by submitting a request to the FAA, Transport Airplane Directorate, ANM-114, Attention: Rules Docket Number 2001-NM-244-AD, 1601 Lind Avenue, SW., Renton, Washington 98055-4056.

Discussion

The FAA has received a report indicating that four occurrences of cracks in the spoiler hold-down actuator supports had been observed by an operator of McDonnell Douglas Model 717 series airplanes. The cracks, which occurred on airplanes which had accumulated approximately 2,800 total flight hours, were caused by high fatigue loads due to excessive deflection of the supports. If not detected and corrected or prevented, cracks in the spoiler hold-down actuator supports could lead to reduced spoiler hold-down capability, resulting in loss of the back-up protection of the spoiler float hold-down and unavailability of monitoring for an uncommanded spoiler movement.

Explanation of Relevant Service Information

The FAA has reviewed and approved Boeing Alert Service Bulletin 717-57A0002, Revision 02, dated October 2, 2001, which describes procedures for repetitive visual inspections of the spoiler hold-down actuator supports located on the left and right wing rear spars for cracks and adjustment of the spoiler hold-down actuators. The service bulletin recommends that spoiler hold-down actuator supports, which are found to be cracked, be replaced with new supports within 500 flight hours of the inspection.

The FAA has also reviewed and approved Boeing Service Bulletin 717-57-0004, Revision 01, dated October 2, 2001, which describes procedures for replacement of the spoiler hold-down actuator supports, idler links, hinge pin, and attaching parts with new parts and for adjustment of the spoiler hold-down actuators. Accomplishment of the actions specified in the service bulletins is intended to adequately address the identified unsafe condition.

Explanation of Requirements of Proposed Rule

Since an unsafe condition has been identified that is likely to exist or develop on other products of this same type design, the proposed AD would require accomplishment of the actions specified in the service bulletins described previously.

Operators should note that, while it is not the FAA's normal policy to allow flight with known cracks, the proposed rule would permit further flight with a cracked spoiler hold-down actuator support, provided that the spoiler hold-down actuators are adjusted prior to further flight and that the cracked spoiler hold-down actuator support is replaced within 500 flight hours after the inspection during which a crack was detected.

Cost Impact

There are approximately 52 airplanes of the affected design in the worldwide fleet. The FAA estimates that 36 airplanes of U.S. registry would be affected by this proposed AD.

It would take approximately 12 work hours per airplane to accomplish the proposed detailed visual inspection and adjustment of the spoiler hold-down actuator supports for cracks at an average labor rate of $60 per work hour. Based on these figures, the cost impact of the proposed inspection on U.S. operators is estimated to be $25,920, or $720 per airplane, per inspection cycle.

It would take approximately 18 to 43 work hours per airplane to accomplish the proposed replacement of the spoiler hold-down actuator supports and associated parts at an average labor rate of $60 per work hour. The manufacturer has committed previously to its customers that it would bear the cost of replacement parts. As a result, the cost of those parts is not attributable to this proposed AD. Based on these figures, the cost impact of the proposed replacement on U.S. operators is estimated to be between $38,880 and $92,880, or between $1,080 and $2,580 per airplane.

The cost impact figures discussed above are based on assumptions that no operator has yet accomplished any of the proposed requirements of this AD action, and that no operator would accomplish those actions in the future if this proposed AD were not adopted. However, the FAA has been advised that manufacturer warranty remedies are available for labor costs associated with accomplishing the actions required by this proposed AD. Therefore, the future economic cost impact of this rule on U.S. operators may be less than the cost impact figure indicated above. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2001-NM-244-AD.

Applicability: Model 717 series airplanes, manufacturer's fuselage numbers 5002 through 5064 inclusive, and 5066 through 5073 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect and correct as well as to prevent cracks in the spoiler hold-down actuator supports, which could lead to reduced spoiler hold-down capability, resulting in loss of the back-up protection of the spoiler float hold-down and unavailability of monitoring for an uncommanded spoiler movement, accomplish the following:

Inspections

(a) Prior to the accumulation of 1,500 total flight hours, or within 500 flight hours after the effective date of this AD, whichever occurs later: Perform a detailed visual inspection of the spoiler hold-down actuator supports on the left and right wing rear spar for cracks, in accordance with Boeing Alert Service Bulletin 717-57A0002, Revision 02, dated October 2, 2001.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 3: Inspections accomplished prior to the effective date of this AD in accordance with Boeing Alert Service Bulletin 717-57A0002, Revision 01, dated February 28, 2001, are considered acceptable for compliance with the applicable action specified in this amendment.

(1) If no crack is detected: Prior to further flight, adjust the spoiler hold-down actuators in accordance with the service bulletin. Repeat the detailed visual inspection at intervals not to exceed 500 flight hours until the accomplishment of the requirements of paragraph (b) of this AD.

(2) If any crack is detected: Prior to further flight, adjust the spoiler hold-down actuators in accordance with the service bulletin. Within 500 flight hours after accomplishment of the inspection, replace the cracked spoiler hold-down actuator supports(s) and associated idler link(s), hinge pins, and attaching parts with new parts and adjust the spoiler hold-down actuators, in accordance with Boeing Service Bulletin 717-57-0004, Revision 01, dated October 2, 2001. Replacement of a cracked spoiler hold-down actuator support as required herein constitutes terminating action for that actuator support for the requirements of this AD.

Terminating Action

(b) Within 15 months after the effective date of this AD: Replace spoiler hold-down actuator supports, idler links, hinge pin, and attaching parts with new parts and adjust the spoiler hold-down actuators, in accordance with Boeing Service Bulletin 717-57-0004, Revision 01, dated October 2, 2001. Any spoiler hold-down actuator supports, idler links, hinge pin, or attaching parts which have previously been replaced in accordance with paragraph (a)(2) of this AD do not need to be replaced. Replacement of all spoiler hold-down actuators in accordance with Boeing Service Bulletin 717-57-0004, Revision 01, dated October 2, 2001, constitutes terminating action for the requirements of this AD.

Note 4: Replacement of a spoiler hold-down actuator support accomplished prior to the effective date of this AD in accordance with Boeing Service Bulletin 717-57-0004, dated May 30, 2001, is considered acceptable for compliance with the applicable action specified in this amendment.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 5: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Issued in Renton, Washington, on December 28, 2001.
Vi L. Lipski,
Manager, Transport Airplane Directorate,Aircraft Certification Service.

[FR Doc. 02-204 Filed 1-3-02; 8:45 am]

BILLING CODE 4910-13-P